DEPARTMENT OF TRANSPORTATION

Pipeline and Hazardous Materials Safety Administration

Notice of Delays in Processing of Special Permits Applications

AGENCY: Pipeline and Hazardous Materials Safety Administration (PHMSA), DOT.

ACTION: List of applications delayed more than 180 days.

SUMMARY: In accordance with the requirements of 49 U.S.C. 51I7(c), PHMSA is publishing the following list of special permit applications that have been in process for 180 days or more. The reason(s) for delay and the expected completion date for action on each application is provided in association with each identified application.

FOR FURTHER INFORMATION CONTACT: Ryan Paquet, Director, Office of Hazardous Materials Special Permits and Approvals, Pipeline and Hazardous Materials Safety Administration, U.S. Department of Transportation, East Building, PHH-30, 1200 New Jersey Avenue SE., Washington, DC 20590-0001, (202) 366-4535.

Key to “Reason for Delay”

1. Awaiting additional information from applicant.

2. Extensive public comment under review.

3. Application is technically complex and is of significant impact or precedent-setting and requires extensive analysis.

4. Staff review delayed by other priority issues or volume of special permit applications.

Meaning of Application Number Suffixes

N—New application

M—Modification request

R—Renewal Request

P—Party to Exemption Request

Issued in Washington, DC, on April 10, 2012.
Donald Burger,
Chief, General Approvals and Permits.

Application No. | Applicant | Reason for delay | Estimated date of completion
Modification to Special Permits
10898-M | Hydac Corporation, Bethlehem, PA | 3 | 05-30-2012
14372-M | Kidde Aerospace and Defense, Wilson, NC | 3 | 06-30-2012
11516-M | The Testor Corporation, Rockford, IL | 3 | 07-30-2012
8723-M | Maine Drilling & Blasting, Auburn, NH | 3 | 07-30-2012
New Special Permit Applications
15080-N | Alaska Airlines, Seattle, WA | 1 | 06-30-2012
15229-N | Linde Gas North America LLC, New Providence, NJ | 3 | 07-30-2012
15283-N | KwikBond Polymers, LLC, Benicia, CA | 3 | 07-30-2012
15334-N | Floating Pipeline Company Incorporated, Halifax, Nova Scotia | 3 | 07-30-2012
15322-N | Digital Wave Corporation, Englewood, CO | 1 | 07-30-2012
15393-N | Savannah Acid Plant LLC, Savannah, GA | 3 | 07-30-2012
15510-N | TEMSCO Helicopters, Inc., Ketchikan, AK | 3 | 07-30-2012
Party to Special Permits Application
14372-P | L'Hotellier, France | 3 | 07-30-2012
15284-P | Honeywell International, Inc., Morristown, NJ | 3 | 05-30-2012
11136-P | Lantis Productions Inc. dba Lantis Fireworks & Lasers, Draper, UT | 3 | 06-30-2012
Renewal Special Permits Applications
7891-R | Aldrich Chemical Company Inc., Milwaukee, WI | 3 | 05-30-2012
9929-R | Alliant Techsystems Operations LLC (former Grantee ATK Elkton), Elkton, MD | 3 | 07-30-2012
11110-R | United Parcel Services Company, Louisville, KY | 3 | 08-30-2012
12994-R | Air Liquide Healthcare America Corporation, Houston, TX | 3 | 07-30-2012
12283-R | Interstate Battery of Anchorage, AK | 3 | 06-30-2012

[FR Doc. 2012-9192 Filed 4-18-12; 8:45 am]

BILLING CODE 4910-60-M